ENVIRONMENTAL PROTECTION AGENCY

40 CFR Part 300

[EPA-R03-SFUND-2010-0436; FRL-9177-8]

National Oil and Hazardous Substances Pollution Contingency Plan; National Priorities List: Partial Deletion of the Letterkenny Army Depot Southeastern (SE) Area and Letterkenny Army Depot Property Disposal Office (PDO) Area Superfund Sites

AGENCY: Environmental Protection Agency.

ACTION: Direct final rule.

SUMMARY: The Environmental Protection Agency (EPA) Region III is publishing a direct final Notice of Deletion of portions of the Letterkenny Army Depot Southeastern (SE) Area and Letterkenny Army Depot Property Disposal Office (PDO) Area (Sites), located in Chambersburg, PA, from the National Priorities List (NPL). The NPL, promulgated pursuant to section 105 of the Comprehensive Environmental Response, Compensation, and Liability Act (CERCLA) of 1980, as amended, is an appendix of the National Oil and Hazardous Substances Pollution Contingency Plan (NCP). This direct final partial deletion is being published by EPA with the concurrence of the Commonwealth of Pennsylvania, through the Pennsylvania Department of Environmental Protection (PADEP), because EPA has determined that all appropriate response actions at these identified parcels under CERCLA, other than operation, maintenance, and five-year reviews, have been completed. However, this partial deletion does not preclude future actions under Superfund.

This partial deletion pertains to the soil and groundwater of parcels 24, 27, 28, 2-53, 2-53L, 2-54, 2-54L, 2-70, 2-70L, 3-89, 3-90, and 3-91. All other parcels within the site boundaries of Letterkenny Army Depot SE and PDO Areas will remain on the NPL and are not being considered for deletion as part of this action.

DATES: This direct final partial deletion is effective September 21, 2010 unless EPA receives adverse comments by August 23, 2010. If adverse comments are received, EPA will publish a timely withdrawal of the direct final partial deletion in the Federal Register informing the public that the partial deletion will not take effect.

ADDRESSES: Submit your comments, identified by Docket ID no. EPA-R03-SFUND-2010-0436, by one of the following methods:

• http://www.regulations.gov. Follow on-line instructions for submitting comments.

• E-mail: hoover.gerald@epa.gov.

• Fax: (215) 814-3025, Attn: Gerald Hoover.

• Mail or Hand Delivery to: U.S. Environmental Protection Agency, Region III, Attn: Gerald Hoover (3HS11), 1650 Arch Street, Philadelphia, PA 19103-2029. Phone: (215) 814-2077. Business Hours: Mon. thru Fri.—9 a.m. to 4 p.m.

Instructions: Direct your comments to Docket ID no. EPA-R03-SFUND-2010-0436. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or at:

U.S. EPA Region III, Library, 2nd Floor, 1650 Arch Street, Philadelphia, PA, 19103-2029. Phone: (215) 814-5254. Business Hours: Mon. thru Fri.—8 a.m. to 5 p.m.

Letterkenny Army Depot, Building 14, Chambersburg, PA 17201-4150. POC: Bryan Hoke. Phone: 717-267-9836.

FOR FURTHER INFORMATION CONTACT: Gerald Hoover, Remedial Project Manager (3HS11), U.S. Environmental Protection Agency, Region III, 1650 Arch Str., Philadelphia, PA 19103-2029, (215) 814-2077.

SUPPLEMENTARY INFORMATION:

Table of Contents

I. Introduction

II. NPL Deletion Criteria

III. Partial Deletion Procedures

IV. Basis for Site Partial Deletion

V. Partial Deletion Action

I. Introduction

EPA Region III is publishing this direct final Notice of Partial Deletion of portions of the Letterkenny Army Depot Southeastern (SE) Area and Letterkenny Army Depot Property Disposal Office (PDO) Area (Sites) from the National Priorities List (NPL). This partial deletion pertains to the soil and groundwater of parcels 24, 27, 28, 2-53, 2-53L, 2-54, 2-54L, 2-70, 2-70L, 3-89, 3-90, and 3-91. The NPL constitutes Appendix B of 40 CFR part 300, which is the Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). This partial deletion of the Letterkenny Army Depot SE and PDO Areas is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

Because EPA considers this action to be noncontroversial and routine, this action will be effective September 21, 2010 unless EPA receives adverse comments by August 23, 2010. Along with this direct final Notice of Partial Deletion, EPA is co-publishing a Notice of Intent for Partial Deletion in the “Proposed Rules” section of the Federal Register. If adverse comments are received within the 30-day public comment period on this partial deletion action, EPA will publish a timely withdrawal of this direct final Notice of Partial Deletion before the effective date of the partial deletion and the partial deletion will not take effect. EPA will, as appropriate, prepare a response to comments and continue with the deletion process on the basis of the Notice of Intent for Partial Deletion and the comments already received. There will be no additional opportunity to comment.

Section II of this document explains the criteria for deleting sites from the NPL. Section III discusses procedures that EPA is using for this action. Section IV discusses the parcels 24, 27, 28, 2-53, 2-53L, 2-54, 2-54L, 2-70, 2-70L, 3-89, 3-90, and 3-91 of the Letterkenny Army Depot SE and PDO Areas and demonstrates how they meet the deletion criteria. Section V discusses EPA's action to partially delete the parcels from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to the deletion of parcels 24, 27, 28, 2-53, 2-53L, 2-54, 2-54L, 2-70, 2-70L, 3-89, 3-90, and 3-91 of the Letterkenny Army Depot SE and PDO Areas:

(1) EPA has consulted with the Commonwealth of Pennsylvania prior to developing this direct final Notice of Partial Deletion and the Notice of Intent for Partial Deletion co-published in the “Proposed Rules” section of the Federal Register.

(2) EPA has provided the Commonwealth 30 working days for review of this notice and the parallel Notice of Intent for Partial Deletion prior to their publication today, and the Commonwealth, through the Pennsylvania Department of Environmental Protection (PADEP), has concurred on the partial deletion of the Sites from the NPL, with the condition that future use of the deleted parcels remains commercial/industrial.

(3) Concurrently with the publication of this direct final Notice of Partial Deletion, a notice of the availability of the parallel Notice of Intent for Partial Deletion is being published in a major local newspaper, The Chambersburg Public Opinion. The newspaper notice announces the 30-day public comment period concerning the Notice of Intent for Partial Deletion of the Sites from the NPL.

(4) The EPA placed copies of documents supporting the partial deletion in the deletion docket and made these items available for public inspection and copying at the Sites' information repositories identified above.

(5) If adverse comments are received within the 30-day public comment period on this partial deletion action, EPA will publish a timely notice of withdrawal of this direct final Notice of Partial Deletion before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a portion of a site from the NPL does not preclude eligibility for further response actions, should future conditions warrant such actions.

IV. Basis for Partial Site Deletion

The following information provides EPA's rationale for deleting portions of the Sites from the NPL:

Site Location

Letterkenny Army Depot (LEAD) is located in south-central Pennsylvania in Franklin County, 5 miles north of the Borough of Chambersburg. The Depot covers 19,243 acres, most of which is devoted to ammunition storage. LEAD was the subject of two listings on the National Priorities List (NPL). The first was for the Southeastern (SE) Area, and the second was for the Property Disposal Office (PDO) Area. These two areas are separated by a major groundwater/surface-water drainage divide. The industrial and maintenance areas, which are primarily located in the southeastern corner of LEAD, encompass approximately 2,500 acres and include warehousing, vehicle storage, administration, industrial/maintenance, recreational activities, and housing. The infrastructure of this area includes roads; permanent, semi-permanent, and temporary structures; and utilities. Approximately 1,235 acres at LEAD have been designated for “realignment” under the Base Realignment and Closure (BRAC) initiative. “Realignment” means that the mission at LEAD is changing and approximately 1,235 acres at LEAD have been designated for release and transfer (i.e., “to-be-excessed” or to transfer ownership). The BRAC area is concentrated in the southeastern portion of LEAD, but is located in both the PDO and SE Areas. The BRAC area is being transferred to the Letterkenny Industrial Development Authority (LIDA) in phases. To date, LEAD has completed three parcel transfer phases, covering 761 acres. The Phase I parcels were transferred in 1998. The Phase II parcels were transferred in 2002. The Phase III parcels were transferred in 2004.

Site Background and History

LEAD was originally established as an ammunition storage facility, Letterkenny Ordnance Depot, in 1942. A vehicle maintenance program was started in 1947. In subsequent years additional missions were added and the facility was renamed the Letterkenny Army Depot in 1962. The principal missions at LEAD currently include maintenance, modification, storage, and demilitarization operations on tactical missiles, conventional ammunition, and tactical wheeled vehicles. Operations conducted at LEAD involved cleaning, stripping, plating, lubrication, demolition, chemical/petroleum transfer/storage, and washout/deactivation of ammunition. Many of these missions/activities involved the use and/or disposal of chlorinated solvents, primarily trichloroethene (TCE) and 1,1,1-trichloroethane (TCA), along with petroleum hydrocarbons and other solvents.

The Letterkenny Army Depot SE Area (EPA ID PA6213820503) was listed on the NPL in the final rule appearing in the 7/22/87 Federal Register (52 FR 27620-27642).

The Letterkenny Army Depot PDO Area (EPA ID PA2210090054) was listed on the NPL in the final rule appearing in the 3/13/89 Federal Register (54 FR 10512-10517).

The parcels to be deleted from the NPL are all in an area known as the Southern Martinsburg Shale Region (SMSR), which is an area underlain by the Martinsburg Shale. These parcels are located in both the SE Area and the PDO Area. All of these parcels have been transferred from the Army to the LIDA under the BRAC Act of 1995. These parcels have been incorporated into the Cumberland Valley Business Park which is a commercial/industrial business park. The property consists of industrial land, developed land, small stands of trees, open grassy areas, commercial recreational areas (golf course and community center), administration buildings, and former military housing. No wetlands are located within the parcels, and no Federal or state threatened or endangered species are known or suspected to exist within the parcels. Land located within an approximately 0.5-mile radius of the parcels includes industrial land to the north (including land to be retained by the Army), an industrial area to the east (other BRAC sites as well as land to be retained by the Army), agricultural land to the south, and industrial land to the west (other BRAC property). The parcels are accessible to the general public via Coffey Avenue, which was transferred to LIDA and is maintained by the local townships.

This partial deletion covers the following parcels: 24, 27, 28, 2-53, 2-53L, 2-54, 2-54L, 2-70, 2-70L, 3-89, 3-90, and 3-91 (See Table 1).

Table 1—LIDA/Parcels and the Associated Media Included in the Partial Deletion
LIDA Parcel No. | Parcel No. | Decision document | Contaminated media
24, 2-24B | 24 | Phase I ROD, SEP 1998 | Soil & Groundwater.
|  | Phase III ROD, AUG 2003 | Soil & Groundwater.
27, 2-27B, 3-27C, 3-27D | 27 | Phase I ROD, SEP 1998 | Soil & Groundwater.
|  | Phase II ROD, JULY 2001 | Soil & Groundwater.
|  | Phase III ROD, AUG 2003 | Soil & Groundwater.
28, 3-28B | 28 | Phase I ROD, SEP 1998 | Soil & Groundwater.
|  | Phase III ROD, AUG 2003 | Soil & Groundwater.
2-53 | 2-53 | Phase II ROD, JULY 2001 | Soil & Groundwater.
|  | Phase III ROD, AUG 2003 | Soil & Groundwater.
2-53L | 2-53L | Phase II ROD, JULY 2001 | Soil & Groundwater.
|  | Phase III ROD, AUG 2003 | Soil & Groundwater.
2-54 | 2-54 | Phase II ROD, JULY 2001 | Soil & Groundwater.
|  | Phase III ROD, AUG 2003 | Soil & Groundwater.
2-54L | 2-54L | Phase II ROD, JULY 2001 | Soil & Groundwater.
|  | Phase III ROD, AUG 2003 | Soil & Groundwater.
2-70 | 2-70 | Phase II ROD, JULY 2001 | Soil & Groundwater.
|  | Phase III ROD, AUG 2003 | Soil & Groundwater.
2-70L | 2-70L | Phase II ROD, JULY 2001 | Soil & Groundwater.
|  | Phase III ROD, AUG 2003 | Soil & Groundwater.
3-89-1, 3-89-2, 3-89-3, 3-89-4, 3-89-5, 3-89-6, 3-89-7, 3-89-8, 3-89-9, 3-89-10, 3-89-11, 3-89-12, 3-89-13, 3-89-14, 3-89-15, 3-89-16, 3-89-17, 3-89-18, 3-89-19, 3-89-20, 3-89-21, 3-89-22, 3-89-23, 3-89-24, 3-89-25, 3R-89-26, 3R-89-27, 3R-89-28, 3R-89-29 | 3-89 | Phase III ROD, AUG 2003 | Soil & Groundwater.
3-90 | 3-90 | Phase III ROD, AUG 2003 | Soil & Groundwater.
3-91 | 3-91 | Phase III ROD, AUG 2003 | Soil & Groundwater.

The location of these parcels within the boundaries of the SE and PDO sites can be seen on the map located in the site repositories.

Remedial Investigation and Feasibility Study (RI/FS)—Phase I Parcels

Parcel 24—Building 500 (Part of Soil SE OU 8)

Parcel 24, which includes Building 500 and adjacent lands, was identified through historical aerial photographs as having been used for open vehicle storage early in LEAD's operation (post World War II). Two test trenches were completed in this parcel, and one sample was analyzed for Target Analyte List (TAL) metals and total petroleum hydrocarbons (TPH). The only compound that exceeded the screening criteria was arsenic, which slightly exceeded the EPA Region III risk-based concentration (RBC). EPA and PADEP, along with the Army, as part of the BRAC Cleanup Team (BCT), agreed that the detected concentration did not warrant further remedial action for industrial use. Arsenic is a naturally occurring metal, and arsenic results obtained at LEAD are not inconsistent with the published background concentrations for this metal in Pennsylvania. Residential and child-intense use scenarios were not evaluated.

Parcel 27 and Parcel 28

No evidence of soil contamination was identified for these two parcels and therefore no further work was necessary.

At the time of the RI/FS for the Phase I Parcels, it was believed that there was groundwater contamination underlying all of the Phase I parcels. The human health risk assessment showed unacceptable risk if groundwater contact and use were unrestricted. The FS evaluated institutional controls as a remedy to restrict the property for commercial and industrial use only and to prevent exposure to the underlying groundwater.

Selected Remedy—Phase I Parcels

The Phase I Parcels ROD was signed in September 1998. The selected remedy in the Phase I ROD was institutional controls. This was a final remedy with respect to soils, and an interim remedy for groundwater. The selected remedy included the following components:

■ Restricting the property for commercial and industrial use only.

■ Not permitting soil excavation activities below a depth of 3 feet above the water table without prior approval of the Army.

■ Not permitting construction of any subsurface structure for human occupation without the prior approval of the Army, PADEP, and the EPA.

■ Restricting access or use of the groundwater underlying the property without the prior written approval of the Army, PADEP, and the EPA.

Remedial Investigation and Feasibility Study (RI/FS)—Phase II Parcels

Parcels 2-53, 2-54, and 2-70 (Phase II Parcels)

No evidence of soil contamination was identified for these three parcels and therefore no further work was necessary.

At the time of the Phase II transfer, it was believed that the groundwater underlying all of the Phase II parcels was contaminated with or potentially contaminated with volatile organic compounds. To expedite transfer, the Army and LIDA defined the Phase II parcels to exclude the groundwater. The Phase II parcels are defined to include only the surface structures and soil to a depth of 8 feet below ground surface (ft bgs), which is above the seasonal high groundwater table. The FS evaluated institutional controls as a remedy to prevent exposure to the underlying groundwater.

Selected Remedy—Phase II Parcels

The Phase II Parcels ROD was signed in July 2001. The Phase II ROD determined that no action is necessary to protect public health or welfare, or the environment from the soil at parcels 2-53, 2-54 and 2-70. Because of the suspected groundwater contamination throughout the Phase II parcels, the selected interim remedy for groundwater in the Phase II ROD consisted of land use controls. The land use controls include the following restrictions:

■ Prohibiting soil excavation, digging, drilling, or other soil-disturbing activities below a depth of 3 ft above the water table without the prior approval of the Army.

■ Prohibiting access to or the use of the groundwater underlying the Phase II parcels without the prior approval of the Army, PADEP, and EPA.

■ Prohibiting construction of any subsurface structure for human occupation without the prior approval of the Army, PADEP, and EPA.

LIDA's final reuse plan calls for industrial/commercial use for the majority of the Phase II parcels. There are zoning restrictions imposed by Greene Township to preclude residential use of land that includes Parcels 2-53, 2-54, and 2-70. However, those restrictions are independent of the NPL status of the Site and are not a result of environmental contamination.

Remedial Investigation and Feasibility Study (RI/FS)—Phase III Parcels

Soil

Parcel 3-89:

Parcel 3-89 comprises the majority of the Phase III parcels/SMSR area and is located in both the PDO and SE Areas. The parcel consists of approximately 191 acres on the northern side of Carbaugh Avenue and the western side of Coffey Avenue. Soil investigations were conducted at the Open Vehicle Storage Area, Former Uncurbed Aboveground Storage Tank (AST) North of Building 532, and the Backwash Discharge Area from the Water Treatment Plant. The soil investigations are summarized in the following paragraphs.

Open Vehicle Storage Area (OVSA) Site (Part of Soil OUs PDO OU 6 and SE OU 8)

The OVSA comprises the majority of Parcel 3-89. From approximately 1947 and continuing until the spring of 1998, the OVSA site was used for the storage of military vehicles. The most recent past practice of storage required that the vehicles be drained of fluids (such as diesel fuel, oil, and other engine fluids) before being stored. However, interviews with former employees indicate that the vehicles were formerly stored “wet,” meaning that they were stored with the fluids still in the vehicle, and that the vehicles' fluids may have leaked onto the ground before they were refurbished.

Remedial Investigations were conducted at the OVSA site in 1998, 1999, and 2000. The investigations showed possible risks associated with elevated levels of a group of semivolatile organic compounds (SVOCs) referred to as polycyclic aromatic hydrocarbons (PAHs) in soil. An engineering evaluation/cost analysis (EE/CA) was written to evaluate the need for a removal action. Based on the EE/CA findings a Removal Action was conducted in 2000. The cleanup levels used for the removal action were developed based on a future commercial/industrial post-removal reuse of the site. Approximately 45,000 tons of soil contaminated with PAHs were excavated and disposed of at approved off-site waste disposal facilities. Confirmatory sampling conducted after the removal action showed that the remaining concentrations of PAHs were at or below risk-based standards. A post-removal risk assessment was performed assuming a future commercial/industrial use as well as a potential future residential (unrestricted) use. The risk assessment showed concentrations of chemicals found in site soils, sediments, surface water, and groundwater posed no unacceptable risks to people, plants, or animals based on current and future commercial/industrial reuse. Risks to people based on a theoretical future residential use are within acceptable limits.

Former Uncurbed Aboveground Storage Tank (AST) North of Building 532 Site (Part of PDO OU 6)

This is a small site that consists of a former aboveground storage tank (AST) area. Initially, there was an uncurbed single-walled AST (275 gallons) located north of Building 532 that stored gasoline used to fuel golf carts. This single-walled AST was replaced by a double-walled AST. It is unknown how long the single-walled AST was in service. The soils near the uncurbed AST were not investigated prior to the change in ASTs. The double-walled AST was still in place at the time of the remedial investigation in 1999; however the double-walled AST has subsequently been removed because the golf course converted to electric golf carts.

An investigation was completed to determine if the operation of the former AST at the site had caused a release of contaminants to site soil. Soil sampling was performed in April 1999. Soil borings, soil sampling and analysis, data validation, and surveying were performed. The investigation results did not indicate any chemicals of concern (COCs) in soil and there were no potential sources of groundwater contamination found. Only two chemicals (acetone and lead) were identified as chemicals of potential concern (COPCs) based on a comparison of maximum chemical concentrations to the lowest regulatory residential benchmarks. However, the remedial investigation/risk assessment showed that concentrations of chemicals found in site soils pose no unacceptable risks to people based on current and likely future commercial/industrial use. Risks to people are also within acceptable limits based on a theoretical future residential use. There is minimal habitat available capable of sustaining plants and animals at this site; therefore, ecological risks were not evaluated.

Backwash Discharge Area From the Water Treatment Plant Site (Part of SE OU 8)

This site is located in the eastern part of the parcel along Coffey Avenue, near the water treatment plant for the potable water supply. In the past, sediments that accumulated in the raw water line were flushed out in the western area of the site. In the past, fluffy material (referred to as “flocculant”), which primarily consists of suspended solids removed from the water during the treatment process, was discharged to the eastern area of the site for settling.

An investigation was completed to determine if the former water treatment plant flocculant and backwash sediment disposal practices had caused a release of contaminants to site soil and sediments. Field activities were performed in October 1998. Soil borings, soil and drainage ditch soil sampling and analysis, sediment sampling and analysis, data validation, and surveying were performed. The investigation results did not indicate any COCs in soil and there were no potential sources of groundwater contamination found. Various metals were identified as COPCs based on a comparison of maximum chemical concentrations to the lowest regulatory residential benchmarks. However, the remedial investigation/risk assessment showed that concentrations of chemicals found in site soils pose no unacceptable risks to people, plants, or animals based on current and likely future commercial/industrial uses. Risks to people are also within acceptable limits based on a theoretical future residential use.

Parcel 3-90

Parcel 3-90 is approximately 8 acres in size and is located south of Carbaugh Avenue and west of Coffey Avenue. Parcel 3-90 is located in both the PDO and SE Areas. There are no structures on this parcel. This parcel is currently open land and has been an open area in the past with no apparent storage or industrial activities. No further work was necessary.

Parcel 3-91

Parcel 3-91 is approximately 1.5 acres in size and is located east of Coffey Avenue and north of Texas/Innovation Avenue in the southeastern corner of the SMSR. Parcel 3-91 is located entirely within the SE Area. There are no structures on Parcel 3-91. This parcel consists entirely of the western portion of the Building 400 Series Fire Training Area (FTA) site where industrial activities occurred. The Building 400 Series FTA area had been reportedly used in the past for a short period of time as a fire-fighting training area where a large metal pan was placed on the ground and filled with various flammable liquids, which were ignited. There was no record of the exact location of the pan, years of use, or when or if the pan was removed from the area when training activities ended. Historical aerial photographs from 1949 and 1957 show several disturbed places in this area. Based on knowledge of typical fire-training activities at LEAD, materials burned at the site may have included waste oils. There were no structures or material/waste storage on the site at the time of the remedial investigation in 1998. The only structures in the vicinity of the site were several old barracks/office buildings, which are still located near the site.

An investigation was completed to determine if the former fire training activities had caused a release of contaminants to site soil. Field activities were performed in September 1998. A geophysical survey, test trenching, soil sampling and analysis, data validation, and surveying were performed. The investigation results did not indicate any COCs in soil and there were no potential sources of groundwater contamination found. One VOC (acetone), two SVOCs (PAHs), various metals, and polychlorinated dibenzo-p-dioxins/polychlorinated dibenzofurans (PCDDs/PCDFs) were identified as COPCs based on a comparison of maximum chemical concentrations to the lowest regulatory residential benchmarks. However, the remedial investigation/risk assessment showed that concentrations of chemicals found in site soils pose no unacceptable risks to people, plants, or animals based on current and likely future commercial-industrial use. Risks to people are also within acceptable limits based on a theoretical future residential use.

Groundwater

SMSR Groundwater

As stated above, all of the parcels in this partial deletion are in the SMSR. The SMSR contains an area of shale bedrock surrounded by downgradient limestone bedrock. This shale bedrock is generally more resistant to weathering than the surrounding limestone formations and therefore, forms the “highland” or elevated ridge areas. The SMSR straddles the boundary between the PDO and SE Area NPL Sites. Based on the geologic and topographic upgradient setting and the lack of industrial activities within the SMSR it was thought that the SMSR could be unaffected by the known and potential VOC sources located downgradient of the SMSR. Therefore a groundwater investigation was initiated in 1999 to prove that the SMSR was not impacted by any previous industrial activities at Letterkenny. Four rounds of groundwater sampling were conducted in late 1999 through 2000 and then in 2002. Results of the sampling showed that there is no VOC groundwater contamination in the SMSR. Without VOC groundwater contamination there is no potential for vapor intrusion risk throughout the SMSR. A screening level risk assessment showed that risks to people based on current and future commercial/industrial use are within acceptable limits. Risks to people based on a possible, but unlikely, residential use (including human consumption of site groundwater) are within acceptable limits. Based on the finding of no VOC contaminated groundwater, the PDO portion of the SMSR was redefined as PDO OU 7 and the SE portion was redefined as SE OU 13.

Parcels 2-53L, 2-54L, and 2-70L

These parcels consist of land underneath parcels 2-53, 2-54, and 2-70, which were previously transferred as part of the Phase II BRAC property transfer at LEAD. These parcels consist of land starting 8 ft. below ground surface and extending to the center of the earth. They are located in the southern part of the SMSR/Phase III area within SE OU 13. As stated above, in the Phase II transfer, the entire land area was not originally transferred because it was thought the groundwater located underneath the land was potentially contaminated with VOCs. These parcels were investigated as part of the SMSR groundwater investigation described previously. The Army has completed its investigation and risk assessment for the SMSR groundwater and found no environmental concerns at the site. The top portions of these parcels were transferred with an interim remedy for groundwater consisting of restrictions on soil excavation and groundwater use because at that time it was thought that the groundwater underneath the parcels was contaminated. The Phase III ROD stated that the soil excavation and groundwater restrictions could be removed.

Selected Remedy—Phase III Parcels

Soil

As stated above, all parcels subject to this partial deletion are part of the SMSR for Parcel 3-89, the Army, EPA, and PADEP have determined that risks to people, plants, and animals from potential contact with soils/sediments were acceptable at the OVSA, Former Uncurbed AST North of Building 532, and the Backwash Discharge Area sites and that no action is necessary to protect public health or welfare or the environment. For the OVSA site, this conclusion is based on the conditions of the site following the removal action that was performed in 2000 when PAH-contaminated soil was removed from the site. There were no environmental concerns in Parcels 3-90 and 3-91.

Groundwater

Based on the findings of the SMSR groundwater investigation, there is no VOC groundwater contamination and thus no unacceptable risks from groundwater in this area.

The Phase III ROD was signed in August 2003. Based on the results of the remedial investigations and risk assessments it was determined that No Further Action was necessary for the Phase III Parcels under CERCLA. The No Further Action remedy applies to the SMSR groundwater (PDO OU 7 and SE OU 13) and to the soils (PDO OU 6 and SE OU 8). In addition the ROD stated that no further action was necessary for the groundwater underlying Phase I Parcels 24, 27, 28 and Phase II Parcels, 2-53, 2-54, 2-70 and the underlying Parcels 2-53L, 2-54L, and 2-70L because they are a part of SE OU 13.

Response Actions/Cleanup Goals/Operation & Maintenance

There are no response actions, cleanup goals, or operation & maintenance due to the No Further Action decision in the Phase III ROD for both soils and groundwater. Land use controls restrict the use of Phase I parcels to commercial and industrial use only and prohibit residential use.

Five-Year Review(s)

EPA concurred with the Army's first Five-Year Review for the PDO Area on March 12, 2007. EPA concurred on the first Five-Year Review for the SE Area in November 2001 and the second Five-Year Review for the SE Area on June 24, 2008.

In the 2007 Five-Year Review for the PDO Area, it was determined that the No Further Action Remedy for PDO OU 7 and a portion of PDO OU 6 is still considered protective of human health and the environment. This Five-Year Review did not find any issues relating to the parcels included in this partial deletion.

In the 2008 Five-Year Review for the SE Area, it was determined that the No Further Action Remedy for SE OU 13 and a portion of SE OU 8 is still considered protective of human health and the environment. This Five-Year Review did not find any issues relating to the parcels included in this partial deletion.

Pursuant to CERCLA section 121(c) and the NCP, the next PDO Area five-year review will be conducted in 2012 and the next SE Area five-year review will be conducted in 2013 to ensure other OUs at each respective Superfund Site where waste was left in place are protective of human health and the environment.

Community Involvement

Public participation activities have been satisfied as required in CERCLA section 113(k), 42 U.S.C. 9613(k), and CERCLA section 117, 42 U.S.C. 9617. Documents in the deletion docket which EPA relied on for recommendation of the deletion from the NPL are available to the public in the information repositories.

Public participation related to parcels in deletion package:

—Phase I Proposed Plan public meeting held on April 7, 1998 to present the proposed remedy for the Phase I Parcels.

—Phase II Proposed Plan public meeting held on February 22, 2001 to present the proposed remedy for the Phase II Parcels.

—Phase III Proposed Plan public meeting held on April 23, 2003 to present the proposed remedy for the Phase III Parcels.

Determination That the Criteria for Deletion Have Been Met

No further response action under CERCLA is appropriate. EPA has determined based on the investigations conducted at these parcels and documented by the 3 RODs described above, that the Army has implemented all appropriate response actions required. Through the previous PDO and SE areas five-year reviews, EPA has also determined that the Phase III Parcels No Further Action remedy is considered protective of human health and the environment and, therefore, taking of additional remedial measures is not necessary. Other procedures required by 40 CFR 300.425(e) are detailed in Section III.

V. Deletion Action

The EPA, with concurrence dated March 2, 2010 of the Commonwealth of Pennsylvania through the Pennsylvania Department of Environmental Protection, has determined that all appropriate response actions under CERCLA have been completed. Therefore, EPA is deleting parcels 24, 27, 28, 2-53, 2-53L, 2-54, 2-54L, 2-70, 2-70L, 3-89, 3-90, and 3-91 of the Letterkenny Army Depot SE and PDO Areas Sites from the NPL.

Because EPA considers this action to be noncontroversial and routine, EPA is taking it without prior publication. This action will be effective September 21, 2010 unless EPA receives adverse comments by August 23, 2010. If adverse comments are received within the 30-day public comment period, EPA will publish a timely withdrawal of this direct final notice of partial deletion before the effective date of the partial deletion and it will not take effect. EPA will prepare a response to comments and continue with the deletion process on the basis of the notice of intent to partially delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 12, 2010.
William C. Early,
Acting Regional Administrator, Region III.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

2. Table 2 of Appendix B to part 300 is amended by revising the entries under Pennsylvania for “Letterkenny Army Depot (SE Area), Chambersburg” and “Letterkenny Army Depot (PDO Area), Franklin County” to read as follows:

Appendix B to Part 300—National Priorities List

Table 2—Federal Facilities Section
State | Site name | City/County | Notes (a)
| * * * * * * *
PA | Letterkenny Army Depot (SE Area) | Chambersburg | P
* * * * * * *
* * * * * * *
PA | Letterkenny Army Depot (SE Area) | Franklin County | P
* * * * * * *
(a)* * *
*P= Sites with partial deletion(s).

[FR Doc. 2010-17776 Filed 7-22-10; 8:45 am]

BILLING CODE 6560-50-P